DEPARTMENT OF COMMERCE

Foreign-Trade Zones Board

[B-33-2019]

Foreign-Trade Zone (FTZ) 29—Louisville, Kentucky; Authorization of Production Activity; Hitachi Automotive Systems Americas, Inc.; (Automotive Components); Harrodsburg and Berea, Kentucky

On May 2, 2019, Hitachi Automotive Systems Americas, Inc. submitted a notification of proposed production activity to the FTZ Board for its facility within Subzone 29F, in Harrodsburg and Berea, Kentucky.

The notification was processed in accordance with the regulations of the FTZ Board (15 CFR part 400), including notice in the Federal Register inviting public comment (84 FR 20091-20092, May 8, 2019). On September 3, 2019, the applicant was notified of the FTZ Board's decision that no further review of the activity is warranted at this time. The production activity described in the notification was authorized, subject to the FTZ Act and the FTZ Board's regulations, including Section 400.14.

Dated: September 3, 2019.
Andrew McGilvray,
Executive Secretary.

[FR Doc. 2019-19422 Filed 9-6-19; 8:45 am]

BILLING CODE 3510-DS-P